DEPARTMENT OF THE INTERIOR

National Park Service

Notice of Receipt of Application and Environmental Assessment Received for Access to National Park Service Property for the Siting of Wireless Transmission Antennas and Request for Public Comment

AGENCY: National Park Service, Department of the Interior.

ACTION: Public notice of the receipt of an Application for a right-of-way permit for a wireless telecommunications facility, receipt of an Environmental Assessment (EA) evaluating the potential impact of mounted antennas and supporting infrastructure proposed within the right-of-way at Cape Hatteras National Seashore, and the request for public comment.

SUMMARY: Public Notice is hereby given that the National Park Service (NPS) has received an Application from Triton PCS Corporation for a right-of-way permit to construct, operate, and maintain a wireless telecommunications site within the Cape Hatteras National Seashore.

The proposed facility consists of an antenna array incorporated into an existing elevated water tank, which is the subject of a prior right-of-way granted to the Town of Nags Head, NC, in 1986. The proposed facility includes the placement of three separate 9 feet by 10 feet directional antennas on top of an existing water tank which has a height of 149.0 feet and which is situated on Cape Hatteras National Seashore property. Additionally, there is proposed the construction of a 10 feet by 20 feet elevated service module to house associated equipment and access to the site as part of the requested right-of-way.

The NPS is making the Application and EA available for public review. A preliminary review by park staff of the documents submitted to date indicates that the proposed facility will not have a significant impact on the quality of the human environment within the meaning of Section 102(2c) of the National Environmental Policy Act of 1969. The NPS will take no final action on this proposed wireless telecommunications facility until the comments from the public have been considered.

DATES: There will be a thirty (30) day public review period for comment on the Application and the EA. Written comments must be received on or before July 2, 2001.

ADDRESSES: Interested parties may review the Application and EA at Headquarters Building, Outer Banks Group, National Park Service, 1401 National Park Drive, Manteo, North Carolina 27954. Comments concerning the Application or EA should be directed to Superintendent Francis A. Peltier, Outer Banks Group, National Park Service, 1401 National Park Drive, Manteo, North Carolina 27954. Phone (252) 473-2111 ext. 132. Copies of the Application and EA can be obtained by writing the Superintendent at 1401 National Park Drive, Manteo, NC, 27954, or calling 252-473-2111 ext. 132.

Francis A. Peltier,
Superintendent, Outer Banks Group.

[FR Doc. 01-11130 Filed 5-2-01; 8:45 am]

BILLING CODE 4310-70-P